NUCLEAR REGULATORY COMMISSION

[Docket Nos. 52-012; 52-014]

South Texas Project Nuclear Operating Co.; South Texas Project Units 3 and 4, Order

The Commission is issuing a Notice Withdrawing the Hearing Notice Regarding the Application for a Combined Operating License for South Texas Project Units 3 and 4. This has the effect of indefinitely postponing the deadline by which petitions to intervene must be filed. The Commission will republish a notice of opportunity for hearing on the Application when the staff is informed, as requested in its January 30, 2008, correspondence to Mr. Mark Burnett, Vice President Regulatory Affairs, that South Texas Nuclear Operating Company is prepared to support a review of the complete COL Application. The Petitions to Suspend the Hearing Notice Regarding the Application for a Combined License for South Texas Project Units 3 and 4 filed by the Sustainable Energy and Economic Development Coalition (“SEED Coalition”), the Nuclear Information and Resource Service, Inc. (“NIRS”), Beyond Nuclear, Inc. and the Sierra Club, Inc., on February 8, 2008, and filed by the Southwest Workers Union, on February 11, 2008, are thereby rendered moot.

This Order is issued pursuant to my authority under 10 CFR 2.346(a).

It is so ordered.

Dated at Rockville, Maryland this 13th day of February 2008.
For the Nuclear Regulatory Commission.
Annette L. Vietti-Cook,
Secretary of the Commission.

[FR Doc. E8-3199 Filed 2-19-08; 8:45 am]

BILLING CODE 7590-01-P